DEPARTMENT OF JUSTICE

Office of Justice Programs

[OJP(OJP)-1357]

Supplemental Notice of Intent To Prepare an Environmental Impact Statement (EIS) and Environmental Impact Report (EIR) for a New Juvenile Justice Facility in Alameda County, CA

AGENCY: Office of Justice Programs, Justice.

ACTION: Notice of intent (NOI).

SUMMARY: This NOI is being published to provide additional information regarding alternatives that will be evaluated for the Alameda County (California) Juvenile Justice Facility project. The County proposes to develop a new Juvenile Justice Facility with an initial capacity for 420 beds, five juvenile courts, offices for courts administration, probation, public defender, and district attorney, plus associated support facilities (approximately 425,000 square feet of floor area). Future expansion of the facility could accommodate 450 to 540 beds and an additional juvenile court (up to 460,000 square feet total). The Juvenile Justice Facility is proposed in response to serious shortcomings in the capability of the existing facilities located in San Leandro and Oakland, California, to serve the existing and future needs of children in the County. Existing buildings in San Leandro would be demolished and building space in Oakland would be vacated following completion of the new facility.

DATES: Two public scoping meetings will be held on Wednesday, July 10, 2002, at the Oakland Asian Cultural Center, 388th Ninth Street at Webster, in Oakland, California.

An afternoon meeting will be held from 2 p.m. to 4 p.m. for interested and affected federal, state, and local agencies to identify major and less important issues, coordinate the schedule, and determine respective roles and responsibilities in preparation of the EIS/EIR. The public is also welcome to attend.

The evening meeting will be held from 6 p.m. to 9 p.m. The meeting will be conducted in an open house format which offers interested persons an opportunity to drop in at any time during the meeting to learn more about the project and the environmental review process. The intent of the meeting is to solicit comments from the public to identify those environmental issues that are most relevant or of most concern with respect to the implementation of the project and alternatives so that these issues can be analyzed in depth in the Draft EIS/EIR. Representatives of the independent environmental consulting firms preparing the environmental documents will be in attendance along with representatives of the Federal, State, and county governments.

Comments may also be submitted in writing, identifying relevant environmental and socioeconomic issues to be addressed in this environmental analysis. Comments and information should be mailed to Mr. Michael Houghtby of the California Board of Corrections at the address listed below. Requests to be placed on the mailing list for announcements and the Draft EIS/EIR should also be sent to Mr. Michael Houghtby. The deadline for submitting written comments is July 19, 2002.

FOR FURTHER INFORMATION CONTACT: Ms. Jill Young, Environmental Coordinator, Department of Justice, Office of Justice Programs, Corrections Programs Office, 810 7th Street, NW., Washington DC 20531, Telephone (202) 353-7302, Fax (202) 307-2019.

Written comments should be directed to Mr. Michael Houghtby, Field Representative, State of California Board of Corrections, Corrections Planning and Programs Division, 600 Bercut Dr, Sacramento, CA 95814, Telephone (916) 322-7085; Fax (916) 445-5796. Each of the participating agencies will receive copies of the letters sent to Mr. Houghtby.

SUPPLEMENTARY INFORMATION: The proposed Juvenile Justice Facility is intended to replace the existing Alameda County Juvenile Hall, which is located in the hills of San Leandro, Alameda County, California. The existing facility was constructed in various phases with most structures dating from the 1950s to 1970s. It includes secure detention at the Juvenile Hall facility for 299 detainees, camps for low security detention, and the Chabot Community Day Center. The detention facility is constructed on a steep hillside in close proximity to the Hayward fault, an active earthquake fault with a potential for causing severe ground shaking with an estimated 32% chance of a major seismic event during the next 30 years. In addition, these facilities, which have been overcrowded, have or will soon exceed their useful, economic life and are in need of replacement, based on operational and architectural/engineering evaluations. Therefore, the facility does not meet the present or future needs of the residents, staff or community and must be replaced.

A juvenile justice system master plan completed in 1998 determined that the County needed to construct a new juvenile detention facility that would house up to 540 children at any given time. The facility would respond to the approximately 10,000 annual referrals for intake, of which 6,000 are admitted for detention in a given year. The estimated total number of beds required for a new detention facility was based on historical trends and projections, multiplied by a factor of 1.2 to account for peaking, classification and operational needs, so that the County could house youth in a facility that reflects the detainees' gender, age, and security risk, to avoid crowding, and to provide for long-term planning. The County Board of Supervisors has since revised the project to include 420 beds, with possible expansion to 450 beds.

The Juvenile Justice Facility is funded in part by Federal grant monies disbursed by the California Board of Corrections. These funds total $33,165,000, and are part of the State's allocation from the Violent Offender Incarceration and Truth-in-Sentencing (VOI/TIS) Incentive Grant Program. The County would provide additional funding from bonds, certificates of participation, and the general fund. The total cost for the Juvenile Justice Facility is estimated to be approximately $177,000,000.

The U.S. Department of Justice, the California Board of Corrections and the County of Alameda are preparing a joint Environmental Impact Statement and Environmental Impact Report (EIS/EIR) in order to satisfy the requirements of the National Environmental Policy Act (NEPA) and the California Environmental Quality Act (CEQA) concurrently. The U.S. Department of Justice is the lead federal agency under NEPA for the preparation of the EIS/EIR and the California Board of Corrections will be preparing the EIS/EIR under a provision of NEPA that allows an agency of statewide jurisdiction with responsibility for the proposed action (pursuant to the VOI/TIS grant) to prepare an EIS. The County of Alameda will be the lead agency under CEQA for the preparation of the EIS/EIR for the Juvenile Justice Facility and related projects as appropriate. The related projects include the East County Hall of Justice and the County Office projects at the East County Government Center in Dublin.

Alternatives

A Notice of Intent for this project was published in the Federal Register on January 15, 2002. That NOI identified a proposed project site in Dublin, California, and stated that additional alternative sites could be identified during the environmental review process. The County of Alameda has since identified several other potentially feasible alternative sites for the Juvenile Justice Facility. The original site and the additional alternative sites now being considered are described below.

No Action/No Project: The EIS/EIR will consider the No Action/No Project Alternative, as required by NEPA and CEQA. Under such a scenario, the existing Juvenile Hall and associated support facilities would remain in their present locations and no expansion or major improvements would occur.

East County Government Center Site: The County of Alameda owns a vacant 40-acre site, known as the East County Government Center site, located at the northern terminus of Hacienda Drive in Dublin, California. The proposed Alameda County Juvenile Justice Facility project could be one component of that Government Center. Other projects on that site could include a new Hall of Justice (including 15 to 19 adult courts and related functions in a 250,000 square-foot building) and other County offices (approximately 200,000 square feet).

Pardee & Swan Site: The Port of Oakland owns a vacant 34-acre property at the northern terminus of Pardee Drive at Swan Way in Oakland, California. If the County were to acquire this site, it could develop a Juvenile Justice Facility similar to the plan for the East County Government Center site in Dublin. Existing juvenile justice facilities in Oakland would be vacated, the existing facility in San Leandro would be demolished, and all of the County's juvenile justice functions would be consolidated to this location.

Glenn Dyer Detention Center: This site is a half-block area in downtown Oakland, located at 550 Sixth Street. It is currently occupied by the County's North County Jail for adults (also known as the Glenn Dyer Detention Facility). This facility will be closing in the coming months; therefore, the County is exploring the possibility of converting the eight-story facility into a juvenile detention center. The facility would not accommodate all of the planned court and office support functions, so some of the existing juvenile justice functions in downtown Oakland would remain at their current locations. The existing functions in San Leandro would be relocated to downtown Oakland and that existing facility would be demolished.

Existing San Leandro Property: This 80-acre site is located at 2200 Fairmont Drive in San Leandro, California. It is presently occupied by the existing Juvenile Hall, a day facility, and two detention camps. A new detention center, courts, administration, and other functions could be developed in an area that is currently occupied by one of the juvenile camps. The site conditions present certain constraints that could limit the size of the facility. Existing office and court uses in Oakland would be relocated to the new facility, and the existing Juvenile Hall would be demolished if this alternative were implemented.

Size Variations: At any of the alternative sites described above, the County could develop a Juvenile Justice Facility that would accommodate fewer or more detainees. As the number of detainees changes, so would the number of courts and other associated functions and spaces, though not is strict proportion to the number of beds. The EIS/EIR will consider a range of sizes, from 330 beds (approximately the same size as the existing facility in San Leandro) to 540 beds (based on projections contained in the County's Needs Assessment and grant application).

Additional Alternative: In addition to the Juvenile Justice Facility alternatives described in this NOI, the County of Alameda will be evaluating an alternative site for the proposed East County Hall of Justice as part of the EIR under its CEQA responsibilities. That site, known as the Transit Center Site, comprises 20 acres of land on two parcels located at Arnold Road and Dublin Blvd. in the City of Dublin, California. The two vacant properties could be used separately or in combination for the development of a 15- to 19-court building, parking, and plaza areas.

Deborah Daniels,
Assistant Attorney General.

[FR Doc. 02-15363 Filed 6-18-02; 8:45 am]

BILLING CODE 4410-18-P